DEPARTMENT OF TRANSPORTATION

Maritime Administration

46 CFR Part 310

[Docket Number: MARAD-2004-19397]

RIN 2133-AB61

Amended Service Obligation Reporting Requirements for State Maritime Academy Graduates

AGENCY: Maritime Administration, Department of Transportation.

ACTION: Final rule.

SUMMARY: This rule adopts as final, without change, the interim final rule published in the Federal Register (69 FR 61605) on October 20, 2004. The Maritime Administration (MARAD, we, us, or our) is publishing this final rule to change the service obligation reporting requirements for State maritime academy graduates who receive Student Incentive Payments (SIPs). The new reporting requirements create standard reporting dates that coincide with the U.S. Naval Reserve/Merchant Marine Reserve (USNR/MMR) service reporting dates. This rulemaking also provides for the electronic submission of reports as the primary means of submission to MARAD.

DATES: This final rule is effective May 10, 2005.

ADDRESSES: This final rule is available for inspection and copying between 10 a.m. and 5 p.m., e.t., Monday through Friday, except Federal holidays at the Docket Clerk, U.S. DOT Dockets, Room PL-401, Department of Transportation, 400 7th St., SW., Washington, DC 20590. An electronic version of this document along with all documents entered into this docket are available on the World Wide Web at http://dms.dot.gov.

FOR FURTHER INFORMATION CONTACT: Rita Jackson, Academies Program Officer, Office of Policy and Plans, Maritime Administration, Department of Transportation, 400 7th St., SW., Room 7123, Washington, DC 20590, telephone: (202) 366-0284.

SUPPLEMENTARY INFORMATION: The Student Incentive Payment Program provides financial assistance to certain eligible State maritime academy students to help offset educational costs. Students who receive Student Incentive Payments must sign service obligation contracts that obligate the students to certain post-graduate service requirements. The requirements include: (1) Serving for three (3) years after graduation in the foreign or domestic commerce or the national defense of the United States in maritime-related employment; (2) maintaining a valid license as an officer in the merchant marine of the United States for at least six (6) years following the date of graduation, accompanied by the appropriate national and international endorsements and certification as required by the United States Coast Guard for service aboard vessels on domestic and international voyages; and (3) accepting if tendered an appointment as, and serving as a commissioned officer in the United States Naval Reserve, the United States Coast Guard Reserve, or any other reserve unit of an armed force of the United States for six (6) years following graduation. The above requirements are set forth in 46 App. U.S.C. 1295c(g)(3)(C), (D), and (E). In addition to the above service obligations, graduates are required, under 46 App. U.S.C. 1295c(g)(3)(F), to submit reports to MARAD indicating compliance with their service obligations.

Prior to the issuance of this rulemaking, regulations at 46 CFR 310.7(b)(6)(i) required State maritime academy SIP graduates to submit their service obligation reports thirteen (13) months following graduation and each succeeding twelve (12) months for a total of three (3) years. The three (3) year reporting period, however, did not accurately reflect the requirement in 46 App. U.S.C. 1295c(g)(3)(F) that graduates report compliance with all of their service obligations, because graduates must submit reports indicating their compliance not only with the three (3) year service (i.e., employment) requirement, but also with the six (6) year licensing and reserve components of the service obligation. Thus, under the law, graduates must submit compliance reports for a minimum of six (6) years to account for all of their service obligations. The six (6) year reporting requirement dates back to the Maritime Education and Training Act of 1980 (Pub. L. 96-453) but has not been reflected in MARAD's regulations. However, as a matter of agency practice, MARAD has long required graduates to submit reports for six (6) years to report compliance with their service obligation requirements.

In this final rule, MARAD is amending its regulations to reflect the requirement that graduates report for six (6) years (or until all components of the service obligation are fulfilled, whichever is latest). In addition, MARAD is amending the service obligation reporting requirements to require each graduate to file a report between January 1 and March 1 following graduation and during the same January 1 to March 1 time frame for a minimum of six (6) years thereafter.

The new reporting dates coincide with the USNR/MMR's service reporting dates to create a standard reporting period. This standardized reporting period should make reporting less burdensome because graduates will be able to compile and submit information to MARAD and to the USNR during the same time frame each year.

This rulemaking also provides for the electronic submission of reports as the primary means of submission. Graduates must submit annually the Maritime Administration Service Obligation Compliance Report and Merchant Marine Reserve, U.S. Naval Reserve (USNR), Annual Report (Form MA-930). Graduates may submit their Service Obligation Compliance Reports electronically via the Maritime Service Compliance System at https://mscs.marad.dot.gov.

On October 20, 2004, the Maritime Administration published the interim final rule that preceded this action in the Federal Register. Comments on the interim rule were due by November 19, 2004, and no comments were received.

Regulatory Analyses and Notices

Executive Order 12866 and DOT Regulatory Policies and Procedures

This final rule is not considered a significant regulatory action under section 3(f) of Executive Order 12866 and, therefore, was not reviewed by the Office of Management and Budget. This final rule is not likely to result in an annual effect on the economy of $100 million or more. This final rule is also not significant under the Regulatory Policies and Procedures of the Department of Transportation (44 FR 11034, February 26, 1979). The costs and economic impact associated with this rulemaking are considered to be so minimal that no further analysis is necessary. This final rule merely changes the reporting requirements for submission of service obligation report forms to make reporting less burdensome, amends the number of report submissions to conform to requirements set forth in the U.S. Code, and provides the option of electronic submission of such reports to MARAD.

Administrative Procedure Act

The Administrative Procedure Act (5 U.S.C. 553) provides an exception to notice and comment procedures when they are unnecessary or contrary to the public interest. MARAD found that under 5 U.S.C. 553(b)(3)(B), good cause existed for not providing notice and comment since the interim final rule only changed the service obligation reporting dates of State maritime academy graduates who receive SIP payments to make reporting less burdensome, amended the number of report submissions to conform to requirements set forth in the U.S. Code, and provided the option of electronic submission of such reports to MARAD. While MARAD solicited public comments on the interim final rule, no comments were received.

Under 5 U.S.C. 553(d)(3), MARAD finds that, for the same reasons, good cause exists for making this rule effective less than 30 days after publication in the Federal Register.

Regulatory Flexibility Act

The Maritime Administrator certifies that this final rule will not have a significant economic impact on a substantial number of small entities. This final rule only changes the service obligation reporting requirements for State maritime academy graduates who receive SIP payments. Thus, this rule only affects individuals and not businesses or other entities.

Federalism

We have analyzed this final rule in accordance with the principles and criteria contained in Executive Order 13132 (Federalism) and have determined that it does not have sufficient federalism implications to warrant the preparation of a federalism summary impact statement. These regulations have no substantial effect on the States, the current Federal-State relationship, or the current distribution of power and responsibilities among local officials. Therefore, consultation with State and local officials is not necessary.

Executive Order 13175

MARAD does not believe that this final rule will significantly or uniquely affect the communities of Indian tribal governments when analyzed under the principles and criteria contained in Executive Order 13175 (Consultation and Coordination with Indian Tribal Governments). Therefore, the funding and consultation requirements of this Executive Order do not apply.

Environmental Impact Statement

We have analyzed this final rule for purposes of compliance with the National Environmental Policy Act of 1969 (42 U.S.C. 4321 et seq.) and have concluded that under the categorical exclusions in section 4.05 of Maritime Administrative Order (MAO) 600-1, “Procedures for Considering Environmental Impacts,” 50 FR 11606 (March 22, 1985), neither the preparation of an Environmental Assessment, an Environmental Impact Statement, nor a Finding of No Significant Impact for this final rule is required. This final rule involves administrative and procedural regulations that have no environmental impact.

Unfunded Mandates Reform Act of 1995

This final rule does not impose an unfunded mandate under the Unfunded Mandates Reform Act of 1995. It does not result in costs of $100 million or more, in the aggregate, to any of the following: State, local, or Native American tribal governments, or the private sector. This final rule is the least burdensome alternative that achieves this objective of U.S. policy.

Paperwork Reduction Act

This final rule contains information collection requirements covered by the Office of Management and Budget approval number 2133-0509. The changes have no impact on the reporting burden.

List of Subjects in 46 CFR Part 310

Federal Aid Programs, Reporting and recordkeeping requirements, Schools, and Seamen.

Interim Rule Adopted as Final Without Change

Accordingly, MARAD adopts the interim final rule amending 46 CFR part 310 that was published in the Federal Register on October 20, 2004 (69 FR 61605) as a final rule without change.

By order of the Maritime Administrator.
Dated: May 5, 2005.
Joel C. Richard,
Secretary, Maritime Administration.

[FR Doc. 05-9307 Filed 5-9-05; 8:45 am]

BILLING CODE 4910-81-P